DEPARTMENT OF THE INTERIOR

Fish and Wildlife Service

[FWS-HQ-IA-2017-N069; FXIA16710900000-167-FF09A30000]

Agency Information Collection Activities: OMB Control Number 1018-0093; Federal Fish and Wildlife Permit Applications and Reports—Management Authority

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on May 31, 2017. We may not conduct or sponsor and a person is not required to respond to a collection of information unless it displays a currently valid OMB control number.

DATES: To ensure that we are able to consider your comments on this IC, we must receive them by June 26, 2017.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, 5275 Leesburg Pike, MS: BPHC, Falls Church, VA 22041-3803 (mail); or info_coll@fws.gov (email). Please include “1018-0093” in the subject line of your comments.

FOR FURTHER INFORMATION CONTACT: Service Information Collection Clearance Officer, at info_coll@fws.gov (email) or (703) 358-2503 (telephone).

SUPPLEMENTARY INFORMATION:

I. Abstract

This information collection covers permit applications and reports that our Division of Management Authority uses to determine the eligibility of applicants for permits requested in accordance with the criteria in various Federal wildlife conservation laws and international treaties. Service regulations implementing these statutes and treaties are in chapter I, subchapter B of title 50, Code of Federal Regulations (CFR). These regulations stipulate general and specific requirements that, when met, allow us to issue permits to authorize activities that are otherwise prohibited.

Information collection requirements associated with the Federal fish and wildlife permit applications and reports are currently approved under three different OMB control numbers: 1018-0093, “Federal Fish and Wildlife Permit Applications and Reports—Management Authority; 50 CFR 12, 13, 14, 15, 16, 17, 18, 21, 23”; 1018-0150, “Renewal of CITES Registration of Commercial Breeding Operations for Appendix I Wildlife and Other CITES Requirements, 50 CFR 17 and 23”; and 1018-0164, “Import of Sport-Hunted African Elephant Trophies, 50 CFR 17.” In this revision of 1018-0093, we will include all of the information collection requirements associated with all three OMB Control Numbers. If OMB approves this revision, we will discontinue OMB Control Numbers 1018-0150 and 1018-0164.

II. Data

OMB Control Number: 1018-0093.

Title: Federal Fish and Wildlife Permit Applications and Reports—Management Authority; 50 CFR 12, 13, 14, 15, 16, 17, 18, 21, 23.

Form Numbers: FWS Forms 3-200-19 through 3-200-37, 3-200-39 through 3-200-44, 3-200-46 through 3-200-53, 3-200-58, 3-200-61, 3-200-64 through 3-200-66, 3-200-69, 3-200-70, 3-200-73 through 3-200-76, 3-200-80, and 3-200-85 through 3-200-88.

Type of Request: Revision of a currently approved collection.

Description of Respondents: Individuals; biomedical companies; circuses; zoological parks; botanical gardens; nurseries; museums; universities; antique dealers; exotic pet industry; hunters; taxidermists; commercial importers/exporters of wildlife and plants; freight forwarders/brokers; and State, tribal, local, and Federal governments.

Respondent's Obligation: Required to obtain or retain a benefit.

Frequency of Collection: On occasion.

Estimated Number of Annual Responses: 7,902.

Estimated Completion Time per Response: Varies from 15 minutes to 40 hours, depending on activity.

Estimated Annual Burden Hours: 5,620.

Estimated Annual Nonhour Burden Cost: $519,903 for costs associated with application processing fees, which range from $0 to $250. There is no fee for reports. Federal, tribal, State, and local government agencies and those acting on their behalf are exempt from processing fees.

III. Comments

On February 24, 2017, we published in the Federal Register (82 FR 11596) of our intent to request that OMB approve this information collection. In that notice, we solicited comments for sixty (60) days, ending on April 25, 2017. We received five comments in response to that Notice:

Comment 1: Email Comment Dated 04/21/2017 from Conservation Force: We received a comment from Conservation Force on April 21, that provided a number of suggestions regarding trophy applications (3-200-19, 3-200-20, 3-200-21, and 3-200-22) and applications under the U.S. Endangered Species Act for captive-breeding and take (3-200-37 and 3-200-41). The commenter was concerned the Service would reject applications that were expired or soon to expire. They also discuss various items that they believe should be updated or omitted. The commenter has raised questions on why the Service was requesting applicant's social security numbers. Furthermore, they were concerned that the purposes for why some applicants, particularly hunting ranches, were requesting authorization under the Endangered Species Act were not clearly outlined on the application and confusing to applicants. They end with a statement of the need for an electronic permitting system.

FWS Response to Comment 1: The Service has addressed many of the issues raised by the commenter. Over one year ago, the Service discontinued capturing applicant's social security numbers in our permitting database, so have removed the question requesting this information from the application forms. The Service agrees with the commenter regarding eliminating the need to a description of the trophy being imported and has removed that question from forms 3-200-19, 3-200-20, 3-200-21, and 3-200-22. The Service recognizes the commenter's concern that some applicants may be confused by some questions and has simplified the application to request information in a clearly manner to meet the needs for a variety of permitting situations. In an effort to provide better outreach to applicants, the Service is committed to developing web-based material to provide greater insight to the permitting process than may be available on the face of any one application form. Finally, the Service appreciates the commenter's suggestions for improving the application process and are working on an e-permits issuing system.

Comment 2: Email Comment Dated 04/25/2017 from The Humane Society of the United States, Humane Society International, and The Humane Society Legislative Fund (combined response):

The Humane Society of the United States (HSUS), Humane Society International (HIS), The Humane Society Legislative Fund expressed that the information collected by the Service is all necessary for the Service to implement its regulations. They support the current information collection and expressed the need to continue to collect the information to ensure the proper implementation of CITES and FWS regulations. They also expressed that the current information collection provides a benefit to the public since much of the collected information is available through the Freedom of Information Act providing the public an opportunity to better monitor activities that involved species that are protected under CITES, the ESA, and other laws. The commenters did not provide any specific recommendations to improve the information collection, however.

FWS Response to Comment 2: The Service appreciates the commenters' statement, but given that the comments did not address specific issues that would improve the application forms themselves or the burden placed on applicants. Therefore, we have no additional response to the comments.

Comment 3: Email Comment Dated 04/21/2017 from the League of American Orchestras: The commenter represents over 800 nonprofit organizations within the United States that support or operate symphonies, community orchestras, summer musical festivals, and student/youth ensembles. Many of the commenter's members participate in international performances and therefore must obtain permits to move instruments that contain listed species. Most of the comments submitted deal more with the underlying regulations and U.S. obligations under CITES than with the permit applications themselves. The commenter requested that the Service work to eliminate or reduce the permitting requirements established under CITES. The commenter did state that the estimated completion time burden of 0.5 hour did not accurately reflect the time required for some orchestras to complete application form 3-200-88. The commenter stated that its members are, for the most part, new to the permitting process and unfamiliar with the documentation requirements needed to complete the application form. As with the other commenters, this commenter raised the need for an electronic permitting system to streamline submission of applications.

FWS Response to Comment 3: The Service has been actively working with the commenter and its members for several years to help education them on the permitting requirements under CITES and the application process. While most of the comments provided by this commenter are outside the information collection process, the Service will take them into advisement as we move forward in our efforts to address outstanding issues within the CITES community. The Service recognizes and, on many points made by the commenter, support the need for changes within the CITES context. In regards to the estimated completion time burden, the Service recognizes that many of the applicants that fill out form 3-200-88 are large orchestras that may have multiple instruments that need to be exported. While the Service believes that each musician involved in the orchestra or, if the instruments are owned by the orchestra itself, should have all of the relevant information about their instruments readily available, it may take longer to compile all of the information than we initially estimated to complete the application form. Therefore, we are increasing our estimated time burden to 1.5 hours. Lastly, as with the previous commenters, the Service supports the concept of creating an electronic permitting system and is actively working on that endeavor at this time.

Comment 4: Email Comment Dated 04/21/2017 from the National Association of Music Merchants: The commenter represents over 900 members in the United States and 100 other countries, many of which are involved in the commercial trade of products recently regulated by CITES. Due to the recent listing of the affected timber species, many members are unfamiliar with the Service's permitting process. The commenter requested that the Service provide greater clarity of the need for permits due to the recent CITES listing and the permitting process.

The commenter requested more detailed instructions as to the document requirements to conduct legal international business with products manufactured with listed wood species and greater recognition on the part of the Service on how the permitting process affects the commenter's members. Finally, the commenter requesting that an electronic permitting system be developed to streamline the permitting process.

FWS Response to Comment 4: The Service has been actively working with the commenter and its members since the timber species were listed on CITES and the impact that the permitting process would have on international trade carried out by the commenter's members. The Service had modified the proposed applications to provide greater clarity and to make the applications more user-friendly. Several of the commenter's statements go outside this specific information collection process, but will be take the comments into consideration in other actions taken by the Service.

Comment 5: Email Comment Dated 04/21/2017 from Taylor Guitars: Taylor Guitars addressed several factors that they stated affects their business process in order to export finish guitars. Taylor raised concerns about the permit application processing by the Service once an application is submitted to the Service. They were specifically concerned that how the Service reviews submitted applications and the permits issued creates a burden for Taylor to carry out the business as they did before a recent listing of a number of timber species in January 2017 under CITES. Taylor also raised issues that when the Service considers the time and cost burdens that applicants/permittees face when carrying out export business, particularly in regards to the cost of applying for a permit and the cost of clearance at the port of export. Taylor also recommended several ways to reduce the application burden. As with other commenters, Taylor suggested that the Service implement an electronic application process. Taylor also recommended that the Service consider establishing a permitting process for applicants that they would consider to be “low risk exporters”. This process would combine both the permit application process and the clearance process at the port.

FWS Response to Comment 5: Most of the comments provided by Taylor addressed the application process and the clearance process, not the application forms themselves or how those forms could be revised to improve the information collection. Taylor raised several aspects that would require specific rulemakings to address the Service's current regulatory structure and the implementation of CITES. The Service will take these comments into consideration as we consider revisions to our current regulations. The Service is, as stated previously, currently developing electronic applications that would allow applicants to supply permit applications electronically and pay the application fee online. This process, once in place, should allow for a smoother application process in regards to submissions and subsequent communication with the application.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

IV. Authorities

The authorities for this action are the Endangered Species Act (16 U.S.C. 1531 et seq.), the Migratory Bird Treaty Act (16 U.S.C. 704), the Marine Mammal Protection Act of 1972 (16 U.S.C. 1361 et seq.), the Wild Bird Conservation Act (16 U.S.C. 4901-4916), Lacey Act: Injurious Wildlife (18 U.S.C. 42), the Convention on International Trade in Endangered Species of Wild Fauna and Flora (TIAS 8249), and the Paperwork Reduction Act of 1995 (44 U.S.C. 3501 et seq.).

Dated: May 22, 2017.
Madonna L. Baucum,
Information Collection Clearance Officer, U.S. Fish and Wildlife Service.

[FR Doc. 2017-10702 Filed 5-24-17; 8:45 am]

BILLING CODE 4333-15-P